DEPARTMENT OF COMMERCE

National Oceanic and Atmospheric Administration

RIN 0648-XW73

Fisheries of the Exclusive Economic Zone off Alaska; Chinook Salmon Bycatch Data Collection; Workshop for Industry Review of Data Forms

AGENCY: National Marine Fisheries Service (NMFS), National Oceanic and Atmospheric Administration (NOAA), Commerce.

ACTION: Notice of a public workshop.

SUMMARY: NMFS announces a workshop to solicit comments from the Bering Sea pollock trawl industry on data forms for evaluating the Bering Sea Chinook salmon bycatch management program that will be implemented under Amendment 91 to the Fishery Management Plan for Groundfish of the Bering Sea and Aleutian Islands Management Area. The workshop is open to the public, but NMFS is particularly seeking participation by members of the Bering Sea pollock trawl fishery who are knowledgeable about industry plans and operations for avoiding Chinook salmon bycatch.

DATES: The public workshop will be held June 21, 2010, 9 a.m. to 5 p.m. Pacific Standard Time.

ADDRESSES: The review will be held at the NMFS Alaska Fisheries Science Center, 7600 Sand Point Way N.E., Building 4, Rm 2076 - Traynor Conference Room, Seattle, WA 98115. Photo identification is required to enter this facility.

FOR FURTHER INFORMATION CONTACT: Ron Felthoven, 206-526-4114.

SUPPLEMENTARY INFORMATION: National Marine Fisheries Service (NMFS) Alaska Fisheries Science Center (AFSC) staff are hosting a public workshop to solicit comments on data forms related to the Bering Sea Chinook salmon bycatch data collection program. This program was recommended by the North Pacific Fisheries Management Council at its December 2009 meeting and will be implemented under Amendment 91. AFSC staff will use the results of the workshop to refine the data forms and to evaluate the effectiveness of the program. The workshop is open to the public, but NMFS is particularly seeking participation by members of the Bering Sea pollock trawl fishery who are knowledgeable about the operations and plans for avoidance of Chinook salmon bycatch. NMFS invites owners and operators of American Fisheries Act (AFA) catcher/vessels, catcher/processors, motherships, inshore processors, and Community Development Quota (CDQ) groups to comment on the clarity of the questions in the data forms and contribute advice based on their knowledge of pollock fishing operations.

Special Accommodations

This workshop will be physically accessible to people with disabilities. Requests for sign language interpretation or other auxiliary aids should be directed to Ron Felthoven, 206-526-4114, at least 10 working days prior to the workshop date.

Dated: June 3, 2010.
Carrie Selberg,
Acting Director, Office of Sustainable Fisheries, National Marine Fisheries Service.

[FR Doc. 2010-13706 Filed 6-3-10; 4:15 am]

BILLING CODE 3510-22-S